DEPARTMENT OF HOUSING AND URBAN DEVELOPMENT

[Docket No. FR-6447-N-01]

Notice of Federal Advisory Committee Meetings; Manufactured Housing Consensus Committee

AGENCY: Office of the Assistant Secretary for Housing—Federal Housing Commissioner, Department of Housing and Urban Development (HUD).

ACTION: Notice.

SUMMARY: This notice sets forth the schedule and proposed agenda for two Manufactured Housing Consensus Committees (MHCC) teleconference meetings. The meetings are open to the public. The agenda for each meeting provides opportunity for citizens to comment on the business before the MHCC.

DATES:

The first meeting will be held on Thursday, February 15, 2024, 11 a.m. to 4 p.m. Eastern Standard Time (EST).

The second meeting will be held on Friday, February 16, 2024, 11 a.m. to 2 p.m. Eastern Standard Time (EST).

ADDRESSES: The February meetings will be held via teleconference.

The teleconference number for the meeting(s) is:

Phone: 1 301 715 8592 or 1 646 931 3860.

Meeting ID: 873 3743 1136.

To access the webinar, use the following link: https://us06web.zoom.us/j/87337431136.

FOR FURTHER INFORMATION CONTACT: Teresa B. Payne, Administrator, Office of Manufactured Housing Programs, Department of Housing and Urban Development, 451 7th Street SW, Room 9166, Washington, DC 20410, telephone (202) 708-6423 (this is not a toll-free number), email mhcc@hud.gov. Individuals can dial 7-1-1 to access the Telecommunications Relay Service (TRS), which permits users to make text-based calls, including Text Telephone (TTY) and Speech to Speech (STS) calls. Individuals who require an alternative aid or service to communicate effectively with HUD should email the point of contact listed above and provide a brief description of their preferred method of communication.

SUPPLEMENTARY INFORMATION:

Background

Notice of these meetings is provided in accordance with the Federal Advisory Committee Act, 5 U.S.C. 1009(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment

Citizens wishing to make comments on the business of the MHCC are encouraged to register by or before Monday, February 5, 2024, by contacting the Administering Organization (AO), Home Innovation Research Labs; Attention: Kevin Kauffman, 400 Prince Georges Blvd., Upper Marlboro, MD 20774, or email to mhcc@homeinnovation.com or call 1-888-602-4663. Written comments are encouraged. All written comments must be provided to mhcc@homeinnovation.com no later than Monday, February 12, 2024. Advance registration for both meetings is strongly encouraged.

Please note, written comments submitted will not be read during the meeting but will be provided to the MHCC members prior to the meeting. The MHCC will also provide an opportunity for oral public comments on specific matters before the MHCC at each meeting. The total amount of time for oral comments will be 30 minutes, in two 15-minute periods, with each commenter limited to two minutes to ensure pertinent Committee business is completed and all public comments can be expressed. The Committee will not respond to individual written or oral statements; however, it will take all public comments into account in its deliberations. The MHCC strives to accommodate citizen comments to the extent possible within the time constraints of the meeting agenda.

Noting the complexity of the Department of Energy's (DOE's) Energy Conservation Rule as it works to align energy conservation standards with its Manufactured Housing Construction and Safety Standards, HUD is scheduling two meetings of the MHCC to allow robust discussion, analysis, and consideration of the notice of proposed rulemaking, Energy Conservation Program: Energy Conservations Standards for Manufactured Housing; Enforcement published by DOE on December 23, 2024 at 88 FR 88844 (the “DOE NPR”). These meetings are scheduled for two days to provide sufficient time for thorough consideration. HUD, therefore, strongly encourages active participation by committee members, stakeholders, and other interested parties.

Tentative Agenda for the February 2024 Meetings

Day 1, Thursday, February 15, 2024

11:00-11:05 a.m. Call to Order—Chair, Vice Chair, and Teresa Payne, Designated Federal Officer (DFO)

11:05-11:15 a.m. Welcome and Opening Remarks

A. Roll Call—Kevin Kauffman, Administering Organization (AO)

a. Introductions

b. Manufactured Housing Consensus Committee (MHCC) Members

c. U.S. Department of Housing and Urban Development (HUD) Staff

B. Administrative Announcements—Teresa Payne, DFO, and Kevin Kauffman, AO

11:15-11:20 a.m. Approve Draft Minutes from October 18-20, 2022, and November 15-17, 2022, Manufactured Housing Consensus Committee (MHCC) Meetings

11:20-11:50 a.m. Public Comment Period (Public Encouraged to Sign Up with AO)

11:50 p.m.-1:30 p.m. Review and consider the DOE NPR and prepare recommendations to HUD.

1:30-1:45 p.m. Break

1:45-2:15 p.m. Public Comment Period (Public Encouraged to Sign Up with AO)

2:15-3:50 p.m. Continued review and consideration the DOE NPR and prepare recommendations to HUD.

3:50-4:00 p.m. Daily Wrap Up-DFO and AO

4:00 p.m. Adjourn for the Day

Day 2, Friday, February 16, 2024

11:00-11:05 a.m. Call to Order—Chairperson, Vice Chairperson, and Teresa Payne, Designated Federal Officer (DFO)

11:05-11:15 a.m. Welcome and Opening Remarks

A. Roll Call—Kevin Kauffman, Administering Organization (AO)

a. Introductions

b. Manufactured Housing Consensus Committee (MHCC) Members

c. U.S. Department of Housing and Urban Development (HUD) Staff

B. Administrative Announcements—Teresa Payne, DFO, and Kevin Kauffman, AO

11:15-11:30 a.m. Public Comment Period (Public Encouraged to Sign Up with AO)

11:30 a.m.-12:45 p.m. Continued review and consideration of the DOE NPR and prepare recommendations to HUD.

12:45-1:00 p.m. Break

1:00-1:15 p.m. Public Comment Period (Public Encouraged to Sign Up with AO)

1:15-1:50 p.m. Continued review and consideration of the DOE NPR and prepare recommendations to HUD.

1:50-2:00 p.m. Daily Wrap Up-DFO and AO

2:00 p.m. Adjournment

Julia R. Gordon,
Assistant Secretary for Housing, Federal Housing Commissioner.

[FR Doc. 2024-01951 Filed 1-31-24; 8:45 am]

BILLING CODE 4210-67-P